DEPARTMENT OF HEALTH AND HUMAN SERVICES

Food and Drug Administration

[FDA-225-05-8006]

Memorandum of Understanding Between the United States Food and Drug Administration Department of Health and Human Services and the Australian Pesticides and Veterinary Medicines Authority, Australia

AGENCY: Food and Drug Administration, HHS.

ACTION: Notice.

SUMMARY: The Food and Drug Administration (FDA) is providing notice of a memorandum of understanding (MOU) between the United States Food and Drug Administration, Department of Health and Human Services and the Australian Pesticides and Veterinary Medicines Authority (APVMA), Australia. This MOU is intended to establish an information-sharing arrangement between APVMA and FDA. The Participants intend to strengthen the exchange of knowledge and expertise to enhance the efficiency and effectiveness of their respective roles. This MOU focuses on cooperation in relations to the operational aspects of animal drug regulation and is not intended to cover broader government regulatory policy or to cover areas not falling under the common jurisdictional purview of the Participants.

DATES: The agreement became effective October 20, 2005.

FOR FURTHER INFORMATION CONTACT: Matthew E. Eckel, Office of International Programs, Food and Drug Administration, 5600 Fishers Lane (HFG-1), Rockville MD, 20857, 301-827-4480, FAX 301-480-0716.

SUPPLEMENTARY INFORMATION: In accordance with 21 CFR 20.108(c), which states that all written agreements and MOUs between FDA and others shall be published in the Federal Register, the agency is publishing notice of this MOU.

Dated: January 4, 2006.
Jeffrey Shuren,
Assistant Commissioner for Policy.

BILLING CODE 4160-01-S

[FR Doc. 06-251 Filed 1-11-06; 8:45 am]

BILLING CODE 4160-01-S